DEPARTMENT OF COMMERCE

National Oceanic and Atmospheric Administration

RIN 0648-XS13

Marine Mammals; File No. 87-1743

AGENCY: National Marine Fisheries Service (NMFS), National Oceanic and Atmospheric Administration (NOAA), Commerce.

ACTION: Notice; issuance of permit amendment.

SUMMARY: Notice is hereby given that Daniel P. Costa, Ph.D., Long Marine Laboratory, University of California at Santa Cruz, 100 Shaffer Road, Santa Cruz, California 95060, has been issued an amendment to Scientific Research Permit No. 87-1743-05.

ADDRESSES: The amendment and related documents are available for review upon written request or by appointment in the following office(s):

Permits, Conservation and Education Division, Office of Protected Resources, NMFS, 1315 East-West Highway, Room 13705, Silver Spring, MD 20910; phone (301) 713-2289; fax (301) 713-0376; and

Southwest Region, NMFS, 501 West Ocean Blvd., Suite 4200, Long Beach, CA 90802-4213; phone (562) 980-4001; fax (562) 980-4018.

FOR FURTHER INFORMATION CONTACT: Amy Sloan or Tammy Adams, (301) 713-2289.

SUPPLEMENTARY INFORMATION: The requested amendment has been granted under the authority of the Marine Mammal Protection Act of 1972, as amended (16 U.S.C. 1361 et seq.) and the regulations governing the taking and importing of marine mammals (50 CFR part 216).

Permit No. 87-1743-05, issued on September 29, 2009 (74 FR 56999), authorized long-term behavioral, physiological, and life history research studies on northern elephant seals (Mirounga angustirostris) through September 30, 2010. This amendment (Permit No. 87-1743-06) authorizes the permit holder to increase the number of weaned pups weighed, measured, and tagged in order to study the effects of a current El Niño event. This amendment has been issued prior to close of the public comment period for the application (75 FR 13257), pursuant to 50 CFR 216.33(e)(6). NMFS has determined that the unique climate conditions related to an El Niño event represent a unique research opportunity to study climactic effects on northern elephant seals.

Dated: March 19, 2010.
P. Michael Payne,
Chief, Permits, Conservation and Education Division, Office of Protected Resources, National Marine Fisheries Service.

[FR Doc. 2010-6644 Filed 3-24-10; 8:45 am]

BILLING CODE 3510-22-S